FEDERAL COMMUNICATIONS COMMISSION

47 CFR Part 73

[DA 02-1191; MM Docket Nos. 02-114, 02-115; RM-10426, RM-10427]

Radio Broadcasting Services; Meridianville, Tuscumbia, Carrollton, and Gurley, AL; Monroe and Luna Pier, MI

AGENCY: Federal Communications Commission.

ACTION: Proposed rule.

SUMMARY: The Commission seeks comment on proposals in two separate docketed proceedings in a multiple docket Notice of Proposed Rule Making. The first, jointly filed by Capstar TX Limited Partnership and Clear Channel Broadcasting Licenses, Inc., proposes the reallotment of Channel 231A from Meridianville, Alabama to Gurley, Alabama, modification of the license of Station WXQX(FM) to reflect the change of community, the deletion of Channel 262C1 from Tuscumbia, Alabama, and allotment of Channel 262C2 at Meridianville, Alabama, and modification of the license of Station WLAY-FM to reflect the change of community. They also request the downgrade of Station WZBQ(FM), Carrollton, Alabama, from Channel 231C to Channel 231C0 to accommodate the modification at Gurley. Channel 231A can be allotted at Gurley at a site 12.8 kilometers (8.0 miles) northwest of the community. Channel 262C2 can be allotted at a site 15.6 kilometers (9.7 miles) west of the community. Channel 231C0 can be allotted at Carrollton at Station WZBQ's licensed site. Coordinates for Channel C0 at Carrollton are 33-13-6 NL and 88-5-46 WL. Coordinates for Channel 231A at Gurley are 34-44-29 NL and 86-30-26 NL. Coordinates for Channel 262C2 at Meridianville are 34-49-06 NL and 86-44-16 WL. The second, filed by Cumulus Licensing Corporation, proposes to reallot Channel 252A from Monroe, Michigan to Luna Pier, Michigan, as that community's first local aural transmission service, and modify the license of Station WTWR(FM) to reflect the change of community. Channel 252A can be reallotted from Monroe to Luna Pier at petitioner's licensed site 4.7 kilometers (2.9 miles) northwest of the community at coordinates 41-50-43 NL and 83-27-12 WL. See SUPPLEMENTARY INFORMATION.

DATES: Comments must be filed on or before July 8, 2002, and reply comments must be filed on or before July 23, 2002.

FOR FURTHER INFORMATION CONTACT: Victoria M. McCauley, Media Bureau, (202) 418-2180.

SUPPLEMENTARY INFORMATION: This is a synopsis of the Commission's Notice of Proposed Rule Making, MM Docket Nos. 02-114, and 02-115, adopted May 1, 2002, and released May 17, 2002. The full text of this document is available for public inspection and copying during regular business hours at the FCC Reference Information Center, Portals II, 445 12th Street, SW., Room CY-A257, Washington, DC, 20554. This document may also be purchased from the Commission's duplicating contractor, Qualex International, Portals II, 445 12th Street, SW., Room CY-B402, Washington, DC, 20554, telephone 202-863-2893, facsimile 202-863-2898, or via e-mail qualexint@aol.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

On August 21, 2000, the Audio Services Division granted a minor change application (BPH-20000424ABJ) for Station WLAY-FM, downgrading its facilities to specify operation on Channel 262C1 in lieu of Channel 262C. See Report and Order adopted May 29, 2002, and released June 7, 2002 (DA 02-1341).

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, 336.

§ 73.202 [Amended]

2. Section 73.202(b), the Table of FM Allotments under Alabama, is amended by adding Gurley, Channel 231A, by removing Channel 231C and adding Channel 231C0 at Carrollton, by removing Channel 231A and adding Channel 262C2 at Meridianville and by removing Tuscumbia, Channel 262C.

3. Section 73.202(b), the Table of FM Allotments under Michigan, is amended by adding Luna Pier, Channel 252A, and by removing Monroe, Channel 252A.

Federal Commuications Commission.
John A. Karousos,
Assistant Chief, Audio Division, Office of Broadcast License Policy, Media Bureau.

[FR Doc. 02-15098 Filed 6-13-02; 8:45 am]

BILLING CODE 6712-01-P